DEPARTMENT OF ENERGY

Federal Energy Regulatory Commission

[Docket No. RP02-361-028]

Gulfstream Natural Gas System, L.L.C.; Notice of Negotiated Rate

May 27, 2004.

Take notice that on May 24, 2004, Gulfstream Natural Gas System, L.L.C. (Gulfstream) tendered for filing as part of its FERC Gas Tariff, Original Volume No. 1, Sub Original Sheet No. 8N, with an effective date of November 1, 2003, and a revised negotiated rate letter agreement with one of its shippers.

Gulfstream states that the purpose of this filing is to comply with the Commission's Order issued in the captioned dockets on December 24, 2003 (December 24 Order). Gulfstream states that it has made changes to a negotiated rate agreement and the tariff sheet reflecting the terms of the negotiated rate agreement, as directed by the December 24 Order.

Gulfstream states that it has served this filing on all parties on the Commission's Official Service List in this proceeding.

Any person desiring to protest said filing should file a protest with the Federal Energy Regulatory Commission, 888 First Street, NE., Washington, DC 20426, in accordance with section 385.211 of the Commission's rules of practice and procedure. All such protests must be filed in accordance with section 154.210 of the Commission's regulations. Protests will be considered by the Commission in determining the appropriate action to be taken, but will not serve to make protestants parties to the proceeding. Any person wishing to become a party must file a motion to intervene. This filing is available for review at the Commission in the Public Reference Room or may be viewed on the Commission's Web site at http://www.ferc.gov using the eLibrary link. Enter the docket number excluding the last three digits in the docket number field to access the document. For assistance, please contact FERC Online Support at FERCOnlineSupport@ferc.gov or toll free at (866) 208-3676, or TTY, contact (202) 502-8659. Comments, protests and interventions may be filed electronically via the Internet in lieu of paper. The Commission strongly encourages electronic filings. See 18 CFR 385.2001(a)(1)(iii) and the instructions on the Commission's Web site under the eFiling link.

Magalie R. Salas,
Secretary.

[FR Doc. E4-1273 Filed 6-7-04; 8:45 am]

BILLING CODE 6717-01-P